DEPARTMENT OF TRANSPORTATION

Federal Aviation Administration

Consensus Standards, Light-Sport Aircraft, Notice No. NOA-21-01

AGENCY: Federal Aviation Administration (FAA), DOT

ACTION: Notice of availability; request for comments.

SUMMARY: This notice announces the availability of one new and two revised consensus standards relating to the provisions of the Certification of Aircraft and Airmen for the Operation of Light-Sport Aircraft rule. ASTM International (ASTM) Committee F37 on Light-Sport Aircraft developed the new and revised standards with FAA participation. The FAA finds the new and revised standards acceptable for certification under the provisions of the Certification of Aircraft and Airmen for the Operation of Light-Sport Aircraft rule.

DATES: Comments must be received on or before April 25, 2022.

ADDRESSES: Send comments identified by docket number FAA-2022-0225 using any of the following methods:

□ Federal eRulemaking Portal: Go to http://www.regulations.gov and follow the online instructions for sending your comments electronically.

□ Email: Send comments to: 9-ACE-AVR-LSA-Comments@faa.gov. Specify the standard being addressed by ASTM designation and title. Mark all comments: Consensus Standards Comments.

FOR FURTHER INFORMATION CONTACT: John Stoll, Light-Sport Aircraft Program Manager, Production and Airworthiness Systems, AIR-632, Systems Policy Branch, Aircraft Certification Service, Federal Aviation Administration, 901 Locust, Room 301, Kansas City, Missouri 64106; telephone (816) 329-4178; email:john.stoll@faa.gov.

SUPPLEMENTARY INFORMATION:

Comments Invited

The FAA invites you to submit any written data, views, or arguments about this notice. Comments should identify the consensus standard number and be sent to an address listed under ADDRESSES. The FAA will forward all comments received on or before the closing date to ASTM Committee F37 for consideration, who may change the standard in light of the comments received. The FAA will address all comments received during its recurring review of the consensus standards and participation in the consensus standards revision process.

Background

This notice announces the availability of one new and two revised consensus standards, developed by ASTM Committee F37 on Light-Sport Aircraft, which supersede previously accepted consensus standards. Under the provisions of the Certification of Aircraft and Airmen for the Operation of Light-Sport Aircraft rule (69 FR 44772; July 27, 2004) and Office of Management and Budget (OMB) Circular No. A-119, “Federal Participation in the Development and Use of Voluntary Consensus Standards and in Conformity Assessment Activities,” issued February 10, 1998, and revised January 27, 2016, the FAA accepted consensus standards for the certification of light-sport aircraft.

Instead of developing airworthiness standards through the rulemaking process, the FAA participates as a member of Committee F37 in developing and revising these standards. In the final rule, the FAA stated the agency would continue to participate in revising the consensus standards at an interval no longer than every two years (69 FR 44787). Each review cycle results in a revision to or reapproval of the consensus standard. A revision changes the technical content of the consensus standard, while a reapproval indicates a review cycle has been completed with no technical changes.

Each consensus standard is issued under a fixed designation (e.g., F2245). A number immediately following the designation indicates the year of original adoption or, in the case of revision, the year of last revision. A number in parentheses following the year of original adoption or revision indicates the year of last reapproval. For example, F2242-05(2013) designates a standard that was originally adopted (or revised) in 2005 and reapproved in 2013. A superscript epsilon (ε) after the reapproval year indicates an editorial change since the last revision or reapproval. The FAA only issues a notice of availability for new or revised standards. Reapproved standards issued with no technical changes or standards issued with editorial changes only (i.e., superscript epsilon [ε]) are accepted by the FAA without notice.

Comments on Previous Notice of Availability

The FAA last published a notice of availability of new and revised consensus standards in the Federal Register on October 3, 2018 (83 FR 49971; corrected October 22, 2018, 83 FR 53358). In the notice, the FAA requested public comments on two new and two revised consensus standards. The comment period closed on December 3, 2018. The FAA received no comments.

Consensus Standards in This Notice of Availability

The FAA has participated in the development process for the consensus standards presented in this notice of availability and reviewed these standards for compliance with the regulatory requirements of the Certification of Aircraft and Airmen for the Operation of Light-Sport Aircraft rule. Any light-sport aircraft that has been designed, manufactured, and operated in accordance with these and previously accepted consensus standards provides the public with an appropriate level of safety.

Manufacturers who chose to produce and certificate these aircraft under 14 CFR 21.190 or 21.191 must state that the aircraft meets the provisions of the latest FAA-accepted consensus standards for light sport aircraft.

The FAA maintains a listing of the FAA-accepted consensus standards for light-sport aircraft on the following website: http://www.faa.gov/aircraft/gen_av/light_sport/.

Effective Period of Use for Previous Consensus Standards

The following previously-accepted consensus standards have been revised. This notice announces the FAA's acceptance of the revisions. Either the previous revision or the current revision may be used for initial airworthiness certification of light-sport aircraft until February 23, 2023. This period will allow aircraft that have started the initial airworthiness certification process using the previous revision to complete that process. After February 23, 2023, manufacturers must use the current revision and must identify the current revision in the manufacturer's statement of compliance for initial airworthiness certification of light-sport aircraft unless the FAA publishes a notification otherwise.

The following consensus standards may not be used after February 23, 2023:

ASTM Designation F2245-16c, Standard Specification for Design and Performance of a Light Sport Airplane

ASTM Designation F2339-17, Standard Practice for Design and Manufacture of Reciprocating Spark Ignition Engines for Light Sport Aircraft

The Consensus Standards

The FAA finds the following new and revised consensus standards acceptable for certification under the provisions of the Certification of Aircraft and Airmen for the Operation of Light-Sport Aircraft rule. These consensus standards become effective February 23, 2022 and may be used unless the FAA publishes a notification otherwise:

ASTM Designation F2245-20, Standard Specification for Design and Performance of a Light Sport Airplane

ASTM Designation F2339-19a, Standard Practice for Design and Manufacture of Reciprocating Spark Ignition Engines for Light Sport Aircraft

ASTM Designation F3409-19, Standard Practice for Simplified Aircraft Loads Determination

Availability

ASTM International, 100 Barr Harbor Drive, Post Office Box C700, West Conshohocken, PA 19428-2959, copyrights these consensus standards. Individual reprints of a standard (single or multiple copies, or special compilations and other related technical information) may be obtained by contacting ASTM at this address, or at (610) 832-9585 (phone), (610) 832-9555 (fax), through service@astm.org (email), or via the ASTM website at www.astm.org. To inquire about standard content and/or membership or about ASTM International Offices abroad, contact Joe Koury, Staff Manager for Committee F37 on Light-Sport Aircraft: (610) 832-9804, jkoury@astm.org.

Issued in Washington, DC on February 16, 2022.
Brian E. Cable,
Manager, Systems Policy Branch, Policy and Innovation Division, Aircraft Certification Service.

[FR Doc. 2022-03775 Filed 2-22-22; 8:45 am]

BILLING CODE 4910-13-P